FEDERAL COMMUNICATIONS COMMISSION

47 CFR Part 9

[PS Docket Nos. 18-261, 17-239; GN Docket No. 11-117; DA 22-952; FR ID 105354]

Implementing Kari's Law and RAY BAUM'S Act; Inquiry Concerning 911 Access, Routing, and Location in Enterprise Communications Systems; Amending the Definition of Interconnected VoIP Service; Correction

AGENCY: Federal Communications Commission.

ACTION: Correcting amendments.

SUMMARY: On December 5, 2019, the Federal Communications Commission revised Commission rules. That document incorrectly listed a cross-reference. This document corrects the final regulations.

DATES: Effective October 4, 2022.

FOR FURTHER INFORMATION CONTACT: For additional information, contact Jill Coogan, Attorney Advisor, Policy and Licensing Division, Public Safety and Homeland Security Bureau, (202) 418-1499 or via email at Jill.Coogan@fcc.gov.

SUPPLEMENTARY INFORMATION: This is a summary of the Commission's Second Erratum, in PS Docket Nos. 18-261, 17-239; GN Docket No. 11-117; DA 22-952, released on September 13, 2022. This document corrects the Commission's final rules document, published December 5, 2019 (84 FR 66716). This is the second set of corrections. The first set of corrections was published in the Federal Register on February 19, 2020 (85 FR 9390).

On September 13, 2022, the Federal Communications Commission's Office of Managing Director and Public Safety and Homeland Security Bureau published a Second Erratum to correct an erroneous cross-reference in the final rules appendix of FCC 19-76, published in the Federal Register on December 5, 2019 (84 FR 66716).

Because this change is editorial and non-substantive, we find good cause to conclude that notice and comment are unnecessary for its adoption. Because this rule change does not require notice and comment, the Regulatory Flexibility Act, 5 U.S.C. 601 et seq., does not apply. See id. section 601(2).

This Second Erratum does not contain new or modified information collection requirements subject to the Paperwork Reduction Act of 1995, Public Law 104-13. In addition, therefore, it does not contain any new or modified information collection burden for small business concerns with fewer than 25 employees, pursuant to the Small Business Paperwork Relief Act of 2002, Public Law 107-198; see 44 U.S.C. 3506(c)(4).

The Commission has determined, and the Administrator of the Office of Information and Regulatory Affairs, Office of Management and Budget, concurs that this rule is “non-major” under the Congressional Review Act, 5 U.S.C. 804(2). The Commission will send a copy of the Order to Congress and the Government Accountability Office pursuant to 5 U.S.C. 801(a)(1)(A).

Accordingly, it is ordered that, effective on the date of publication of this Second Erratum in the Federal Register, § 9.17(a)(1) of the rules is amended as set forth herein, pursuant to the authority contained in sections 4(i) and 303(r) of the Communications Act of 1934, as amended, 47 U.S.C. 154(i), 303(r), and in sections 553(b)(3)(B) and 553(d)(3) of the Administrative Procedure Act, 5 U.S.C. 553(b)(3)(B), 553(d)(3).

List of Subjects in 47 CFR Part 9

Communications, Communications common carriers, Communications equipment, Internet, Radio, Reporting and recordkeeping requirements, Satellites, Security measures, Telecommunications, Telephone.

Accordingly, 47 CFR part 9 is corrected by making the following correcting amendments:

PART 9—911 REQUIREMENTS

1. The authority citation for part 9 continues to read as follows:

Authority: 47 U.S.C. 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471, and Section 902 of Title IX, Division FF, Pub. L. 116-260, 134 Stat. 1182, unless otherwise noted.

2. Amend § 9.17 by revising paragraph (a)(1) to read as follows:

§ 9.17 Enforcement, compliance date, State law.

(a) * * *

(1) Sections 9.16(a)(1) and (b)(1) and (2) shall be enforced under title V of the Communications Act of 1934, as amended, 47 U.S.C. 501 et seq., except that section 501 applies only to the extent that such section provides for the punishment of a fine.

* * * * *

Federal Communications Commission.
David Furth,
Deputy Chief, Public Safety and Homeland Security Bureau.

[FR Doc. 2022-20750 Filed 10-3-22; 8:45 am]

BILLING CODE 6712-01-P